DEPARTMENT OF THE INTERIOR

Bureau of Land Management

[LLNVSO3100 L5101000.ER0000 LVRWF09F8590 241A; 10-08807; MO#4500012002; TAS: 14X5017]

Notice of Availability of the Draft Environmental Impact Statement for the Solar Millennium Amargosa Farm Road Solar Power Project, Nye County, NV

AGENCY: Bureau of Land Management, Interior.

ACTION: Notice of availability.

SUMMARY: In accordance with the National Environmental Policy Act (NEPA) of 1969, as amended, the Bureau of Land Management (BLM) has prepared a Draft Environmental Impact Statement (EIS) for the Amargosa Farm Road Solar Power Project, Nye County, Nevada, and by this Notice is announcing the opening of the comment period.

DATES: To ensure comments will be considered, the BLM must receive written comments on the Amargosa Farm Road Solar Power Project Draft EIS within 45 days following the date the Environmental Protection Agency publishes its Notice of Availability in the Federal Register. The BLM will announce future meetings or hearings and any other public involvement activities at least 15 days in advance through public notices, media news releases, or mailings.

ADDRESSES: You may submit comments on the Amargosa Farm Road Solar Power Project Draft EIS by any of the following methods:

• Web site: http://www.blm.gov/nv/st/en/prog/energy/fast-track_renewable.html.

• E-mail: solar_millennium@blm.gov.

• Fax: 702-515-5155.

• Mail: Gregory Helseth, Renewable Energy Project Manager, BLM Pahrump Field Office, 4701 North Torrey Pines Drive, Las Vegas, Nevada 89130-2301.

Copies of the Draft EIS for the Amargosa Farm Road Solar Power Project are available in the Southern Nevada District Office.

FOR FURTHER INFORMATION CONTACT: Gregory Helseth, (702) 515-5173, BLM Pahrump Field Office, 4701 North Torrey Pines Drive, Las Vegas, Nevada 89130-2301; Gregory_Helseth@blm.gov.

SUPPLEMENTARY INFORMATION: Solar Millennium applied to the BLM for a 4,350-acre right-of-way (ROW) on public lands to construct a concentrating solar power plant facility approximately 80 miles northwest of Las Vegas, Nevada, in Nye County. The project site is located in Amargosa Valley south of Highway 95. The facility is expected to operate for approximately 30 years. The proposed project would utilize solar thermal parabolic-trough technology, consisting of two 242-megawatt, dry-cooled power plants, and fields of solar collectors, and thermal storage tanks allowing the production of additional electricity for up to 3.5 hours after sundown.

The solar field is highly modular and consists of loops, each consisting of four curved glass mirror collectors. A loop is 22 meters wide and 850 meters long. A solar field consists of 200 to 400 loops. The orientation of the collectors is north-south and the collectors track the sun from east to west during the day. The collector focuses the sun's direct beam radiation on a receiver tube. The row of collectors has a hydraulic drive unit with sensors to track the sun's path throughout the day. The solar energy heats a transfer fluid which cycles through a series of exchangers, ultimately generating electricity.

The project's proposed facility design includes solar fields, power blocks, buildings, a parking area, a laydown area, a stormwater retention pond, and evaporating ponds. A single overhead 230-kilovolt transmission line will connect the plant to the nearby Valley Electric substation. Additional elements of the project include access roads, a water pipeline, and a bioremediation area.

The Draft EIS describes and analyzes the project's site-specific impacts on air quality; biological, including threatened and endangered species, cultural, water, geological, soil, visual, and paleontological resources; land use and special management areas; noise; public health; socioeconomics; and traffic and transportation. The Draft EIS also addresses hazards and hazardous materials holding; waste management; worker safety; fire protection; facility design engineering; efficiency; reliability; transmission system engineering; transmission line safety; and nuisance.

Three alternatives were analyzed: two for different technologies, dry cooling and wet cooling, and one for no action. Alternative A, wet cooling, uses circulating water to condense low-pressure steam turbine generator exhaust steam in a shell and tube heat exchanger (condenser). Alternative A would require the consumptive use of about 4,500 acre-feet of water per year. Alternative B, dry cooling, uses an air-cooled condenser that cools and condenses the low-pressure steam turbine generator exhaust steam using a large array of fans that force air over finned-tube heat exchangers arranged in an A frame bundle configuration. Alternative B would require the consumptive use of about 400 acre-feet of water per year. Alternative B is the BLM's Preferred Alternative. Alternative C is the No Action Alternative.

Scoping of the project occurred from July 13 to August 24, 2009, and was extended to October 19, 2009. A total of 151 scoping comments were submitted. The comments addressed a broad range of categories, including alternatives, project boundaries, management, and physical/natural resources.

The Draft EIS addresses the following issues identified during scoping: the NEPA process (consultation/coordination, proposal description, alternatives, connected actions, and cumulative impacts); social resources (cultural resources, visual resources, noise, land use, recreation, transportation, and socioeconomic resources); and physical/natural resources (botanical resources, water resources, paleontological resources, biological resources and earth resources).

Please note that public comments and information submitted, including names, street addresses, and e-mail addresses of persons who submit comments, will be available for public review and disclosure at the above address during regular business hours (8 a.m. to 4 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Patrick Putnam,
Pahrump Field Office Manager.

Authority: 40 CFR 1506.6 and 1506.10.

[FR Doc. 2010-6056 Filed 3-18-10; 8:45 am]

BILLING CODE 4310-HC-P